DEPARTMENT OF COMMERCE

International Trade Administration

U.S. Section Membership Opportunities for the United States-India CEO Forum

AGENCY: International Trade Administration (ITA), Department of Commerce

ACTION: Notice.

The Department of Commerce, ITA, is amending the Notice published at 88 FR 57418 (August 23, 2023), regarding the dates for submission of applications for appointment to the U.S. Section of the U.S.-India CEO Forum (“Forum”). ITA will accept applications for membership on the U.S. Section of the Forum for terms that will begin upon appointment and will expire on December 31, 2024. Immediate consideration will now be given to applications received by September 29, 2023. ITA will accept nominations under this notice on an ongoing basis during the charter term to fill vacancies as they arise.

ITA also notes that the following sectors are the subject of ongoing U.S.-India government engagements and is particularly seeking applicants representing:

• Healthcare in the context of tackling current and future public health emergencies and bolstering public health efforts;

• Critical and emerging technologies that are the focus of the U.S.-India initiative on Critical and Emerging Technologies (iCET), announced by President Biden and Prime Minister Modi in May 2022 to elevate and expand the strategic technology partnership and defense industrial cooperation between the governments, businesses, and academic institutions of the United States and India; and

• Long-term institutional investment, including, but not limited to, pension and endowment funds.

ADDRESSES: For inquiries and an application, please contact Noor Sclafani, International Trade Specialist, Office of South Asia, U.S. Department of Commerce, by email at noor.sclafani@trade.gov.

FOR FURTHER INFORMATION CONTACT: Noor Sclafani, International Trade Specialist, Office of South Asia, U.S. Department of Commerce, telephone: (202) 823-1840.

SUPPLEMENTARY INFORMATION: Please refer to Notice published at 88 FR 57418 (August 23, 2023).

Dated: September 14, 2023.
Valerie Dees,
Director, Office of South Asia.

[FR Doc. 2023-20274 Filed 9-18-23; 8:45 am]

BILLING CODE 3510-HE-P